DEPARTMENT OF HOMELAND SECURITY

Coast Guard

[Docket No. USCG-2017-0793]

Chemical Transportation Advisory Committee

AGENCY: U.S. Coast Guard, Department of Homeland Security.

ACTION: Notice of Chemical Transportation Advisory Committee meeting; teleconference option.

SUMMARY: The meeting of the full Chemical Transportation Advisory Committee (CTAC), scheduled for October 5, 2017, was announced in the Federal Register on August 30, 2017. https://www.gpo.gov/fdsys/pkg/FR-2017-08-30/pdf/2017-18331.pdf At that time no teleconference option was announced; this notice announces the alternative of participating by teleconference. To participate via teleconference, please dial 202-475-4000; the participant access code is 607 493 32#.

DATES: The teleconference option will be available between 9 a.m. and 5 p.m. on October 5, 2017, unless the meeting ends earlier. In-person participation is still available for the October 5 meeting as well as the subcommittee meetings on October 3 and 4; see the notice published August 30, 2017, for location and pre-registration details (link above). No teleconference option is available for the subcommittee meetings.

FOR FURTHER INFORMATION CONTACT: Lieutenant Jake Lobb, Alternate Designated Federal Official of the Chemical Transportation Advisory Committee, 2703 Martin Luther King Jr. Ave. SE., Washington, DC 20593-7509, telephone 202-372-1428, fax 202-372-8380, or jake.r.lobb@uscg.mil.

SUPPLEMENTARY INFORMATION: On August 30, 2017, the Coast Guard announced a meeting of the Chemical Transportation Advisory Committee, to occur at Coast Guard Headquarters in Washington, DC (82 FR 41279). The full committee will meet on October 5, after subcommittee meetings on October 3 and 4.

To accommodate committee members and members of the public whose travel plans may be affected by recent hurricanes, the U.S. Coast Guard is offering a teleconference option as an alternative to in-person participation. The teleconference will be available only on October 5. To participate via teleconference, please dial 202-475-4000; the participant access code is 607 493 32#. If you encounter technical difficulties with teleconference access, contact the individual listed in the FOR FURTHER INFORMATION CONTACT section above.

Dated: September 14, 2017.
F.J. Sturm,
Acting Director of Commercial Regulations and Standards, U.S. Coast Guard.

[FR Doc. 2017-19926 Filed 9-18-17; 8:45 am]

BILLING CODE 9110-04-P